FEDERAL COMMUNICATIONS COMMISSION

Notice of Public Information Collection(s) Being Reviewed by the Federal Communications Commission for Extension Under Delegated Authority, Comments Requested

July 25, 2008.

SUMMARY: The Federal Communications Commission, as part of its continuing effort to reduce paperwork burdens, invites the general public and other Federal agencies to take this opportunity to comment on the following information collection(s), as required by the Paperwork Reduction Act of 1995 (PRA), Public Law No. 104-13. An agency may not conduct or sponsor a collection of information unless it displays a currently valid control number. Subject to the PRA, no person shall be subject to any penalty for failing to comply with a collection of information that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written PRA comments should be submitted on or before September 29, 2008. If you anticipate that you will be submitting comments but find it difficult to do so within the period of time allowed by this notice, you should advise the contact listed below as soon as possible.

ADDRESSES: Interested parties may submit all PRA comments by e-mail or U.S. post mail. To submit your comments by e-mail, send them to PRA@fcc.gov and/or to Cathy.Williams@fcc.gov. To submit your comments by U.S. mail, mark them to the attention of Cathy Williams, Federal Communications Commission, Room 1-C823, 445 12th Street, SW., Washington, DC 20554.

FOR FURTHER INFORMATION CONTACT: For additional information about the information collection(s), contact Cathy Williams at (202) 418-2918 or send an e-mail to PRA@fcc.gov and/or Cathy.Williams@fcc.gov.

SUPPLEMENTARY INFORMATION: OMB Control Number: 3060-0010.

Title: Ownership Report for Commercial Broadcast Station.

Form Number: FCC Form 323.

Type of Review: Extension of a currently approved collection.

Respondents: Business or other for-profit entities.

Number of Respondents and Responses: 2,000 respondents; 2,000 responses.

Estimated Time per Response: 0.5-1.5 hours.

Frequency of Response: On occasion reporting requirement; Biennial reporting requirement; On renewal requirement.

Obligation to Respond: Required to obtain or retain benefits. Statutory authority for this collection of information is contained in 154(i), 303, 310 and 533 of the Communications Act of 1934, as amended.

Total Annual Burden: 2,750.

Total Annual Cost: $2,166,800.

Privacy Act Impact Assessment: No impact(s).

Nature and Extent of Confidentiality: There is no need for confidentiality.

Needs and Uses: Each permittee of a commercial AM, FM, TV and international broadcast station shall file an Ownership Report, FCC Form 323 within 30 days of the date of grant by the FCC of an application for an original construction permit or the consummation, pursuant to Commission consent, of a transfer of control or an assignment of a construction permit. A permittee is also required to update that report or to certify the accuracy and completeness of that report when the permittee applies for a station license.

Each licensee of a commercial AM, FM and TV broadcast station shall file an Ownership Report, FCC Form 323 within 30 days of the consummation, pursuant to Commission consent, of a transfer of control or an assignment of a license, when it files its station's license renewal application, and every two years thereafter. Each licensee with a current and unamended Report on file at the Commission may certify that it has reviewed its current Report and that it is accurate and complete.

OMB Control Number: 3060-0178.

Title: Section 73.1560, Operating Power and Mode Tolerances.

Form Number: Not applicable.

Type of Review: Extension of a currently approved collection.

Respondents: Business or other for-profit entities.

Number of Respondents and Responses: 80 respondents; 80 responses.

Estimated Time per Response: 1 hour.

Frequency of Response: On occasion reporting requirement.

Obligation to Respond: Required to obtain or retain benefits. Statutory authority of this collection of information is contained in 154(i) of the Communications Act of 1934, as amended.

Total Annual Burden: 80 hours.

Total Annual Costs: None.

Privacy Impact Assessment: No impact(s).

Nature and Extent of Confidentiality: There is no need for confidentiality.

Needs and Uses: 47 CFR Section 73.1560(d) requires that licensees of AM, FM or TV stations file a notification with the FCC when operation at reduced power will exceed ten consecutive days and upon restoration of normal operations. If causes beyond the control of the licensee prevent restoration of authorized power within a 30-day period, an informal written request must be made for any additional time as may be necessary to restore normal operations.

Federal Communications Commission.
Marlene H. Dortch,
Secretary.

[FR Doc. E8-17575 Filed 7-30-08; 8:45 am]

BILLING CODE 6712-01-P